FEDERAL COMMUNICATIONS COMMISSION

47 CFR Part 73

[DA 02-1867; MB Docket No. 02-206, RM-10469; MB Docket No. 02-207, RM-10468; MB Docket No. 02-205, RM-10470]

Radio Broadcasting Services; Big Lake, Leakey, TX, and Vici, OK

AGENCY: Federal Communications Commission.

ACTION: Proposed rule.

SUMMARY: This document proposes three allotments in response to three separate petitions filed by Robert Fabian. The Audio Division requests comments on these proposals. The first petition proposes the allotment of Channel 249A at Vici, Oklahoma, as the community's first local aural transmission service (RM-10470). Channel 249A can be allotted to Vici without a site restriction at coordinates 36-08-59 and 99-17-54. The second petition requests the allotment of Channel 246A at Big Lake, Texas, at coordinates 31-11-33 and 101-20-53 (RM-10469). The third petition proposes the allotment of Channel 275A at Leakey, Texas, at coordinates 29-41-30 and 99-50-07. Mexican concurrence will be requested for the allotments at Big Lake and Leakey, Texas.

DATES: Comments must be filed on or before September 30, 2002, and reply comments on or before October 15, 2002.

ADDRESSES: Federal Communications Commission, Washington, DC 20554. In addition to filing comments with the FCC, interested parties should serve the petitioner, as follows: Robert Fabian, 4 Hickory Crossing Lane, Argyle, Texas 76226.

FOR FURTHER INFORMATION CONTACT: Kathleen Scheuerle, Media Bureau, (202) 418-2180.

SUPPLEMENTARY INFORMATION: This is a synopsis of the Commission's Notice of Proposed Rule Making, MB Docket No. 02-205, MB Docket No. 02-206, and MB Docket No. 02-207, adopted July 31, 2002, and released August 9, 2002. The full text of this Commission decision is available for inspection and copying during normal business hours in the FCC Reference Information Center (Room CY-A257), 445 12th Street, SW., Washington, DC. The complete text of this decision may also be purchased from the Commission's copy contractor, Qualex International, Portals II, 445 12th Street SW., Room CY-B402, Washington, DC 20554.

Provisions of the Regulatory Flexibility Act of 1980 do not apply to this proceeding.

Members of the public should note that from the time a Notice of Proposed Rule Making is issued until the matter is no longer subject to Commission consideration or court review, all ex parte contacts are prohibited in Commission proceedings, such as this one, which involve channel allotments. See 47 CFR 1.1204(b) for rules governing permissible ex parte contacts.

For information regarding proper filing procedures for comments, see 47 CFR 1.415 and 1.420.

List of Subjects in 47 CFR Part 73

Radio, Radio broadcasting.

For the reasons discussed in the preamble, the Federal Communications Commission proposes to amend 47 CFR Part 73 as follows:

PART 73—RADIO BROADCAST SERVICES

1. The authority citation for Part 73 continues to read as follows:

Authority: 47 U.S.C. 154, 303, 334 and 336.

§ 73.202 [Amended]

2. Section 73.202(b), the Table of FM Allotments under Oklahoma, is amended by adding Vici, Channel 249A.

3. Section 73.202(b), the Table of FM Allotments under Texas, is amended by adding Channel 246A at Big Lake and Channel 275A at Leakey.

Federal Communications Commission.
John A. Karousos,
Assistant Chief, Audio Division, Media Bureau.

[FR Doc. 02-21063 Filed 8-19-02; 8:45 am]

BILLING CODE 6712-01-P